SECURITIES AND EXCHANGE COMMISSION

Sunshine Act Meeting

FEDERAL REGISTER CITATION OF PREVIOUS ANNOUNCEMENT: 65 FR 56351.

ACTION: Federal Register Citation of Previous Announcement: 65 FR 56351.

STATUS: Closed Meeting.

PLACE: 450 Fifth Street, NW., Washington, DC.

DATE PREVIOUSLY ANNOUNCED: September 18, 2000.

CHANGE IN THE MEETING: Time Change.

The closed meeting scheduled for Thursday, September 21, 2000 at 11 a.m., has been changed to Friday, September 22, 2000, at 11 a.m.

At times, changes in Commission priorities require alterations in the scheduling of meeting items. For further information and to ascertain what, if any, matters have been added, deleted or postponed, please contact:

The Office of the Secretary at (202) 942-7070.

Dated: September 15, 2000.
Jonathan G. Katz,
Secretary.

[FR Doc. 00-24196 Filed 9-15-00; 5:00 pm]

BILLING CODE 8010-01-M